DEPARTMENT OF TRANSPORTATION

Pipeline and Hazardous Materials Safety Administration

Office of Hazardous Materials Safety; Notice of Applications for Modification of Special Permit

AGENCY: Pipeline and Hazardous Materials Safety Administration (PHMSA), DOT.

ACTION: List of Applications for Modification of Special Permit.

SUMMARY: In accordance with the procedures governing the application for, and the processing of, special permits from the Department of Transportation's Hazardous Material Regulations (49 CFR Part 107, Subpart B), notice is hereby given that the Office of Hazardous Materials Safety has received the application described herein. This notice is abbreviated to expedite docketing and public notice. Because the sections affected, modes of transportation, and the nature of application have been shown in earlier Federal Register publications, they are not repeated here. Request of modifications of special permits (e.g. to provide for additional hazardous materials, packaging design changes, additional mode of transportation, etc.) are described in footnotes to the application number. Application numbers with the suffix “M” demote a modification request. There applications have been separated from the new application for special permits to facilitate processing.

DATES: Comments must be received on or before February 9, 2009.

Address Comments to: Record Center, Pipeline and Hazardous Materials Safety Administration U.S. Department of Transportation Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue, Southeast, Washington, DC or at http://dms.dot.gov.

This notice of receipt of applications for modification of special permit is published in accordance with Part 107 of the Federal hazardous materials transportation law (49 U.S.C. 5117(b); 49 CFR 1.53(b)).

Issued in Washington, DC, on January 14, 2009.
Delmer F. Billings,
Director, Office of Hazardous Materials, Special Permits and Approvals.

Modification Special Permit
Application No. | Docket No. | Applicant | Regulation(s) affected | Nature of special permit thereof
10869-M | Norris Cylinder Company, Longview, TX | 49 CFR 173.301(b); 173.302(a)(5); 173.304(a); 175.3 | To modify the special permit to authorize an increase of 2 inches to the length of the cylinder
11646-M | Bioclean System & Supply, Inc., Moundsview, MN | 49 CFR 173.28(b)(2); 173.150(f)(3)(vii) | To modify the special permit to authorize an additional Class 8 hazardous material and an alternative method of product transfer
11666-M | Alcoa, Inc., Pittsburgh, PA. | 49 CFR 173.240(b) | To modify the special permit to authorize the addition of intermodal containers and unitizing the electrodes with steel banding to wooden runners or to wooden pallets
11818-M | Space Systems/Loral, Palo Alto, CA | 49 CFR 180.205 | To modify the special permit to authorize the transportation in commerce of a Class 9 material
14467-M | Brenner Tank, LLC Fond Du Lac, WI | 49 CFR 178.345-2 | To modify the special permit to authorize relief from minimum thickness tables for duplex stainless steels used in the construction of DOT-400 series specification cargo tanks
14649-M | Olin Corporation, Winchester Division, East Alton, IL | 49 CFR 173.62(b), 172.10 1 column (8C), 173.60(b)(8), 172.300 and 172.400 | To modify the special permit to authorize an additional Division 1.4C hazardous material

[FR Doc. E9-1175 Filed 1-22-09; 8:45 am]

BILLING CODE 4909-60-M